SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and an extension of OMB-approved information collections, and one request for a new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, E-mail address: OIRA_Submission@omb.eop.gov.

(SSA) Social Security Administration, DCBFM, Attn: Reports Clearance Officer, 1333 Annex Building, 6401 Security Blvd., Baltimore, MD 21235, Fax: 410-965-6400, E-mail address: OPLM.RCO@ssa.gov.

I. The information collection below is pending at SSA. SSA will submit it to OMB within 60 days from the date of this notice. To be sure we consider your comments, we must receive them no later than September 30, 2011. Individuals can obtain copies of the collection instrument by calling the SSA Reports Clearance Officer at 410-965-8783 or by writing to the above email address.

Report on Individual with Mental Impairment—20 CFR 404.1513 & 416.913—0960-0058. SSA uses Form SSA-824 to obtain medical evidence from medical sources who have treated a Social Security disability claimant for a mental impairment. SSA uses the information from this form to establish whether a claimant filing for disability benefits has a mental impairment that meets the statutory definition of disability in accordance with the Social Security Act. The respondents are mental impairment treatment providers.

Type of Request: Extension of an OMB-approved information collection.

Type of respondents | Number of respondents | Frequency of response | Average burden per response (minutes) | Total annual burden (hours)
Private Sector | 25,000 | 1 | 36 | 15,000
State Disability Determination Services (State/Local Government) | 25,000 | 1 | 36 | 15,000
Totals | 50,000 |  |  | 30,000

II. SSA submitted the information collections below to OMB for clearance. Your comments regarding the information collections would be most useful if OMB and SSA receive them within 30 days from the date of this publication. To be sure we consider your comments, we must receive them no later than August 31, 2011. Individuals can obtain copies of the OMB clearance packages by calling the SSA Reports Clearance Officer at 410-965-8783 or by writing to the above email address.

1. Social Security's Public Credentialing and Authentication Process—20 CFR 401.45—0960-NEW. Social Security is introducing a stronger citizen authentication process that will enable a new user to experience and access more electronic services.

Background

Authentication is the foundation for secure, online transactions. Identity authentication is the process of determining with confidence that people are who they claim to be during a remote, automated session. It comprises three distinct factors: something you know, something you have, and something you are. Single-factor authentication uses one of these factors, and multi-factor authentication uses two or more of these factors.

SSA's New Authentication Process

Social Security's new process features credential issuance, account management, and single- and multi-factor authentication. With this process, we are working toward offering consistent authentication across Social Security's secured online services, and eventually to Social Security's automated telephone services. We will allow our users to maintain one User ID, consisting of a self-selected Username and Password, to access multiple Social Security electronic services. This new process: (1) Enables the authentication of users of Social Security's sensitive electronic services; and (2) streamlines access to those services.

Social Security is developing a new authentication strategy that will:

• Issue a single User Identification (ID) for personal, business, and governmental transactions;

• Offer a variety of authentication options to meet the changing needs of the public;

• Partner with an external data provider to help us verify the identity of our online customers;

• Comply with relevant standards;

• Offer access to some of Social Security's more sensitive workloads online, while providing a high level of confidence in the identity of the person requesting access to these services;

• Offer an in-person process for those who are uncomfortable with or unable to use the Internet registration process; and

• Balance security with ease of use.

New Authentication Process Features

SSA's new process will include the following key components: (1) Registration and identity verification; (2) enhancement of the User ID; and (3) authentication. The registration process is a one-time activity for the respondents. The respondent provides some personal information, and we use this to verify respondent identity. Respondents then select their User ID (Username & Password). Respondents will log in with this User ID each time they access SSA's online services. SSA will also allow respondents to increase the security of their credential by adding a second authentication factor.

Information SSA Will Request As Part of the Process

SSA will ask for respondents' personal information, which may include:

• Name

• Social Security number (SSN)

• Date of Birth

• Address—mailing and residential

• Telephone number

• Email address

• Financial information

• Cell phone number

• Responses to an identity quiz (multiple choice format questions keyed to specific data identity thieves will not be able to answer)

• Password reset questions

This collection of information, or a subset of it, is required for respondents who want to conduct business with Social Security via the Internet or our automated 800 number. We will collect this information via the Internet on SSA's public-facing website. We also offer an in-person identification verification process for individuals who cannot or are not willing to register online. We do not ask for financial information with the in-person process. In addition, if individuals opt for the enhanced or upgraded account, they will also receive a text message on their cell phones (this serves as the second factor for authentication) each time they log into SSA's online services.

Advantages of the New Authentication Strategy

This new authentication strategy will provide a user-friendly way for the public to conduct extended business with Social Security online instead of visiting the local servicing office or requesting information over the phone. Individuals will have real-time access to their sensitive Social Security information in a safe and secured web environment.

Burden Information

The respondents for this information collection request are individuals who choose to use the Internet or Automated Telephone Response System to conduct business with SSA.

Type of Request: Request for a new information collection.

Modality of completion | Number of respondents | Frequency of response | Average burden per response (minutes) | Total annual burden hours (hours)
Internet Requestors | 17,900,000 | 1 | 8 | 2,386,667
In-Person (Intranet) Requestors | 5,800,000 | 1 | 8 | 773,333
Totals | 23,700,000 |  |  | 3,160,000

2. Marriage Certification—20 CFR 404.725—0960-0009. SSA uses Form SSA-3 to determine if a spouse claimant has the necessary relationship to the SSN holder (i.e., the worker) to qualify for the worker's Title II benefits. The respondents are applicants for spouse's benefits. This is a correction notice. SSA published this information collection as an extension on May 26, 2011 at 76 FR 30749. Since we are revising the Privacy Act Statement, this is now a revision of an OMB-approved information collection.

Type of Request: Revision of an OMB-approved information collection.

Number of Respondents: 180,000.

Frequency of Response: 1.

Average Burden Per Response: 5 minutes.

Estimated Annual Burden: 15,000 hours.

3. Statement Regarding Date of Birth and Citizenship—20CFR 404.716—0960-0016. When individuals apply for Social Security benefits and cannot provide preferred methods of proving age or citizenship, SSA uses Form SSA-702 to establish these facts. Specifically, SSA uses the SSA-702 to establish age as a factor of entitlement to Social Security benefits, or U.S. citizenship as a payment factor. Respondents are individuals with knowledge about the date of birth or citizenship of applicants filing for one or more Social Security benefits who need to establish age or citizenship.

Type of Request: Revision of an OMB-approved information collection.

Number of Respondents: 1,200.

Frequency of Response: 1.

Average Burden per Response: 10 minutes.

Estimated Annual Burden: 200.

Dated: July 27, 2011.
Faye Lipsky,
Reports Clearance Officer, Center for Reports Clearance, Social Security Administration.

[FR Doc. 2011-19406 Filed 7-29-11; 8:45 am]

BILLING CODE 4191-02-P